DEPARTMENT OF DEFENSE

Office of the Secretary

Defense Health Board (DHB) Meeting

AGENCY: Office of the Assistant Secretary of Defense (Health Affairs); DoD.

ACTION: Notice of meeting.

SUMMARY: In accordance with section 10(a)(2) of Public Law 92-463, The Federal Advisory Committee Act, announcement is made of the following meeting:

Name of Committee: Defense Health Board (DHB).

Dates: December 5, 2006 (Open meeting). December 6, 2006 (Open meeting).

Times: 8 a.m.-4 p.m. (December 5, 2006). 8 a.m.-4 p.m. (December 6, 2006).

Location: Naval Amphibious Base Conference Center, Little Creek, 1120 A Street, Building 3430, Norfolk, Virginia 23521-3297.

Agenda: The purpose of the meeting is to address pending and new Board issues and provide briefings for Board members on topics related to ongoing and new Board business. The Board will conduct an executive working session to address administrative matters related internal Board operations.

FOR FURTHER INFORMATION CONTACT: Colonel Roger Gibson, Executive Secretary, Defense Health Board, Skyline One, 5205 Leesburg Pike, Room 810, Falls Church, VA 22041-3258, (703) 681-3279, extension 114.

SUPPLEMENTARY INFORMATION: The entire sessions on December 5, 2006 and December 6, 2006 will be open to the public in accordance with Section 552b(b) of Title 5, U.S.C., specifically subparagraph (1) thereof and Title 5, U.S.C., appendix 1, subsection 10(d). Open sessions of the meeting will be limited to space accommodations. Tours of military facilities will also be limited by space accommodations and host restrictions. Any interested person may attend, appear before or file statements with the Board at the time and in the manner permitted by the Board.

Dated: November 17, 2006.
L.M. Bynum,
Alternate OSD Federal Register, Liaison Officer, Department of Defense.

[FR Doc. 06-9373 Filed 11-22-06; 8:45 am]

BILLING CODE 5001-06-M